DEPARTMENT OF HEALTH AND HUMAN SERVICES

National Institutes of Health

Notice of Correction for Announcement of Requirements and Registration for “Up For A Challenge (U4C)—Stimulating Innovation in Breast Cancer Genetic Epidemiology”

The National Institutes of Health (NIH) is correcting a notice previously published in the Federal Register on June 5, 2015 (80 FR 32168) and titled “Announcement of Requirements and Registration for `Up For A Challenge (U4C)—Stimulating Innovation in Breast Cancer Genetic Epidemiology'.” The notice announced “Up For A Challenge (U4C)—Stimulating Innovation in Breast Cancer Genetic Epidemiology” (the “Challenge”) to encourage unique approaches to more fully decipher the genomic basis of breast cancer.

NIH is correcting the dates for the Challenge: The Challenge Judging period from January 16, 2016-March 30, 2016 is changing to February 25, 2016-September 12, 2016 and the date for Winners Announced is changing from April 16-20, 2016 to September 12, 2016.

NIH is also correcting the prize distribution: The current notice states “The grand prize Entry will be awarded up to $30,000. The second place Entry will be awarded a runner-up prize of up to $20,000.” The following addition will be made—“In the event of a tie for the grand prize, the top two scorers will each be awarded up to $20,000 and the next highest scorer will be awarded up to $10,000.”

Dated: July 5, 2016.
Douglas R. Lowy,
Acting Director, National Cancer Institute, National Institutes of Health.

[FR Doc. 2016-16437 Filed 7-11-16; 8:45 am]

BILLING CODE 4140-01-P